DEPARTMENT OF HEALTH AND HUMAN SERVICES

Food and Drug Administration

Advisory Committees; Notice of Meetings

AGENCY: Food and Drug Administration, HHS.

ACTION: Notice.

SUMMARY: The Food and Drug Administration (FDA) is announcing a tentative schedule of forthcoming meetings of its public advisory committees for the remainder of 2000. At the request of the Commissioner of Food and Drugs (the Commissioner), the Institute of Medicine (the IOM) conducted a study of the use of FDA's advisory committees. The IOM recommended that the agency publish an annual tentative schedule of its meetings in the Federal Register. In response to that recommendation, FDA is publishing its annual tentative scheduled meetings for the remainder of 2000.

FOR FURTHER INFORMATION CONTACT: Donna M. Combs, Committee Management Office (HFA-306), Food and Drug Administration, 5600 Fishers Lane, Rockville, MD 20857, 301-827-4820.

SUPPLEMENTARY INFORMATION: The IOM, at the request of the Commissioner, undertook a study of the use of FDA's advisory committees. In its final report, the IOM recommended that FDA adopt a policy of publishing an advance yearly schedule of its upcoming public advisory committee meetings in the Federal Register. FDA has implemented this recommendation. A tentative schedule of forthcoming meetings will be published annually in the Federal Register. The annual publication of tentatively scheduled advisory committee meetings will provide both advisory committee members and the public with the opportunity, in advance, to schedule attendance at FDA's upcoming advisory committee meetings. The schedule is tentative and amendments to this notice will not be published in the Federal Register. FDA will, however, publish a Federal Register notice 15 days in advance of each upcoming advisory committee meeting, announcing the meeting (21 CFR 14.20).

The following list announces FDA's tentatively scheduled advisory committee meetings for the remainder of 2000:

Committee Names | Dates of Meetings
OFFICE OF THE COMMISSIONER |
Science Board to the Food and Drug Administration | April 21
CENTER FOR BIOLOGICS EVALUATION AND RESEARCH |
Allergenic Products Advisory Committee | October 24
Biological Response Modifiers Advisory Committee | March 20-21, October 19-20
Blood Products Advisory Committee | March 16-17, June 15-16, September 14-15, December 14-15
Transmissible Spongiform Encephalopathies Advisory Committee | November 2-3
Vaccines and Related Biological Products Advisory Committee | May 11-12, July 27-28, September 21-22, November 2-3
CENTER FOR DRUG EVALUATION AND RESEARCH |
Advisory Committee for Pharmaceutical Science | April 26, May 15-16, November 2-3
Advisory Committee for Reproductive Health Drugs | March 28-29, April 10, May 4-5
Anesthetic and Life Support Drugs Advisory Committee | November 6-7
Anti-Infective Drugs Advisory Committee | March 24, September 11-12
Antiviral Drugs Advisory Committee | July 20-21
Arthritis Advisory Committee | April 11, June 8-9, September 11-12, November 9-10
Cardiovascular and Renal Drugs Advisory Committee | May 1-2, July 20-21, October 19-20
Dermatologic and Ophthalmic Drugs Advisory Committee | May 4-5
Drug Abuse Advisory Committee | October 19-20
Endocrinologic and Metabolic Drugs Advisory Committee | May 18-19, July 13-14, October 5-6, December 7-8
Gastrointestinal Drugs Advisory Committee | April 12
Medical Imaging Drugs Advisory Committee | May 22-23, October 30-31
Nonprescription Drugs Advisory Committee | June 22-23, July 13-14, October 19-20, December 7-8
Oncologic Drugs Advisory Committee | March 16-17, June 5-6
Peripheral and Central Nervous System Drugs Advisory Committee | October 26
Pharmacy Compounding Advisory Committee | May 15-16
Psychopharmacologic Drugs Advisory Committee | June 28-29, November 2-3
Pulmonary-Allergy Drugs Advisory Committee | November 6-7
CENTER FOR FOOD SAFETY AND APPLIED NUTRITION |
Food Advisory Committee | September 14-15
CENTER FOR DEVICES AND RADIOLOGICAL HEALTH |
Device Good Manufacturing Practice Advisory Committee | No meetings planned
Medical Devices Advisory Committee |
Anesthesiology and Respiratory Therapy Devices Panel | May 25-26, September 7-8, November 2-3
Circulatory System Devices Panel | May 2-3, September 25-26
Clinical Chemistry and Clinical Toxicology Devices Panel | March 24, June 29-30, September 14-15, December 14-15
Dental Products Panel | April 6-7, May 23-24, July 18-19, October 3-4
Ear, Nose, and Throat Devices Panel | May 26, June 23, July 20-21, September 22
Gastroenterology-Urology Devices Panel | April 13-14, August 31-September 1, November 30-December 1
General and Plastic Surgery Devices Panel | June 12-13, September 11-12, December 4-5
General Hospital and Personal Use Devices Panel | May 1-2, August 7-8, November 6-7
Hematology and Pathology Devices Panel | June 12, August 8, November 7
Immunology Devices Panel | June 16, September 15, December 8
Medical Devices Dispute Resolution Panel | To be determined
Microbiology Devices Panel | June 21-22, November 16-17
Molecular and Clinical Genetics Panel | June 23, September 15, December 15
Neurological Devices Panel | March 31, May 11-12, August 17-18, November 16-17
Obstetrics-Gynecology Devices Panel | April 10-11, July 24-25, October 9-10
Ophthalmic Devices Panel | March 17, May 11-12, July 27-28, September 21-22, November 8-9
Orthopaedic and Rehabilitation Devices Panel | March 18, May 4-5, August 24-25, November 16-17
Radiological Devices Panel | May 15, August 14, November 6
National Mammography Quality Assurance Advisory Committee | July 10, December 11
Technical Electronic Product Radiation Safety Standards Committee | June 21-22
CENTER FOR VETERINARY MEDICINE |
Veterinary Medicine Advisory Committee | September 15
NATIONAL CENTER FOR TOXICOLOGICAL RESEARCH |
Advisory Committee on Special Studies Relating to the Possible Long-Term Health Effects of Phenoxy Herbicides and Contaminants | No meetings planned
Science Board to the National Center for Toxicological Research | May 1-2

Dated: March 17, 2000.
Linda A. Suydam,
Senior Associate Commissioner.

[FR Doc. 00-7429 Filed 3-24-00; 8:45 am]

BILLING CODE 4160-01-F